DEPARTMENT OF TRANSPORTATION

Federal Aviation Administration

14 CFR Part 39

[Docket No. 2004-CE-04-AD; Amendment 39-13774; AD 2004-17-02]

RIN 2120-AA64

Airworthiness Directives; Raytheon Aircraft Company 65, 90, 99, 100, 200, 300, and 1900 Series Airplanes

AGENCY: Federal Aviation Administration (FAA), DOT.

ACTION: Final rule.

SUMMARY: The FAA adopts a new airworthiness directive (AD) for certain Raytheon Aircraft Company (Raytheon) 65, 90, 99, 100, 200, 300, and 1900 series airplanes. This AD requires you to repetitively inspect the engine controls/cross shaft/pedestal for proper installation and torque, re-torque the cross shaft attach bolt, modify the pedestal, and replace the engine controls cross shaft hardware. Modification of the pedestal and replacement of the engine controls cross shaft hardware is terminating action for the repetitive inspection requirements. This AD is the result of numerous reports of loose bolts on the pedestal attachment of the throttle/prop cross shaft assembly. We are issuing this AD to detect and correct loose bolts not securing the pedestal cross shaft, which could result in limited effectiveness of the control levers. This failure could lead to an aborted takeoff.

DATES: This AD becomes effective on October 4, 2004.

As of October 4, 2004, the Director of the Federal Register approved the incorporation by reference of certain publications listed in the regulation.

ADDRESSES: You may get the service information identified in this AD from Raytheon Aircraft Company, 9709 E. Central, Wichita, Kansas 67201-0085; telephone: (800) 429-5372 or (316) 676-3140.

You may view the AD docket at FAA, Central Region, Office of the Regional Counsel, Attention: Rules Docket No. 2004-CE-04-AD, 901 Locust, Room 506, Kansas City, Missouri 64106. Office hours are 8 a.m. to 4 p.m., Monday through Friday, except Federal holidays.

FOR FURTHER INFORMATION CONTACT: Jeff Pretz, Aerospace Engineer, Wichita Aircraft Certification Office, FAA, 1801 Airport Road, Wichita, Kansas 67209; telephone: (316) 946-4153; facsimile: (316) 946-4407.

SUPPLEMENTARY INFORMATION:

Discussion

What events have caused this AD? The FAA has received numerous reports of loose bolts not securing the pedestal cross shaft on Raytheon Models B300, C90A, and 1900 series airplanes. Investigation revealed that the bolt securing the pedestal cross shaft can loosen in time and fall out. When the bolt backs out, the cross shaft will flex with throttle or propeller control application. This flexing of the cross shaft limits the effectiveness of the control levers and the operation of the landing gear warning, prop reverse not ready, autofeather, and ground idle micro switches (on models with switches at this location).

The 65, 90, 99, 100, 200, 300, and 1900 Series airplanes all have a similar type design in the area affected by this AD.

What is the potential impact if FAA took no action? This failure could limit the effectiveness of the engine control levers and result in an aborted takeoff due to failure to make takeoff power.

Has FAA taken any action to this point? We issued a proposal to amend part 39 of the Federal Aviation Regulations (14 CFR part 39) to include an AD that would apply to certain Raytheon 65, 90, 99, 100, 200, 300, and 1900 series airplanes. This proposal was published in the Federal Register as a notice of proposed rulemaking (NPRM) on April 26, 2004 (69 FR 22392). The NPRM proposed to require you to repetitively inspect the engine controls/cross shaft/pedestal for proper installation and torque, re-torque the cross shaft attach bolt, modify the pedestal, and replace the engine controls cross shaft hardware.

Comments

Was the public invited to comment? We provided the public the opportunity to participate in developing this AD. The following presents the comment received on the proposal and FAA's response to the comment:

Comment Issue: The AD Is Not Needed

What is the commenter's concern? The commenter is responsible for a large fleet (Models 99, 200, and 1900) of 62 airplanes that are affected by this AD. The fleet has accumulated more than 450,000 flight hours. The commenter states that the company has never experienced the problem in the fleet, and that regular inspection in the subject area and check of the subject bolts for tightness eliminates the problem. Therefore, the AD is not necessary.

What is FAA's response to the concern? The FAA disagrees with the commenter's statement that, since the company has not experienced the problem in the fleet, that an AD is not necessary. The AD action was prompted by several reports of loose bolts not securing the pedestal cross shaft on Raytheon Models B300, C90A, and 1900 series airplanes. After issuance of a manufacturer's safety notice, FAA received more reports of loose bolts. Our decision to issue an AD action is based on reports from the field, the likelihood that the condition is likely to exist or develop on other products of this same type design, and the potential impact to an aircraft with the subject condition if no action was taken.

Therefore, to ensure that all affected airplanes do not have the unsafe condition, we are not changing the final rule AD action based on this comment.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 5,025 airplanes in the U.S. registry.

What is the cost impact of this AD on owners/operators of the affected airplanes? We estimate the following costs to do the inspection and re-torque of the cross attach bolt:

Labor cost | Parts cost | Total cost per airplane | Total cost on U.S. operators
1 workhour × $65 per hour = $65 | Not Applicable | $65 | $65 × 5,025 = $326,625

We estimate the following costs to do the modification of the pedestal and replacement of the engine controls cross shaft hardware:

Labor cost | Parts cost | Total cost per airplane | Total cost on U.S. operators
2 workhours × $65 per hour = $130 | $10 | $140 | $140 × 5,025 = $703,500.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2004-CE-04-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-17-02 Raytheon Aircraft Company: Amendment 39-13774; Docket No. 2004-CE-04-AD.

When Does This AD Become Effective?

(a) This AD becomes effective on October 4, 2004.

What Other ADs Are Affected by This Action?

(b) None.

What Airplanes Are Affected by This AD?

(c) This AD affects the following airplane models and serial numbers that are certificated in any category:

Model | Serial Nos.
(1) 65-A90, B90, C90, and C90A | LJ-76, LJ-114 through LJ-1691.
(2) E90 | LW-1 through LW-347.
(3) F90 | LA-2 through LA-236.
(4) 99, 99A, A99A, B99 and C99 | U-1 through U-239.
(5) 100 and A100 | B-1 through B-94, B-100 through B-204, and B-206 through B-247.
(6) B100 | BE-1 through BE-137.
(7) 200 and B200 | BB-2, BB-6 through BB-185, BB-187 through BB-202, BB-204 through BB-269, BB-271 through BB-407, BB-409 through BB-468, BB-470 through BB-488, BB-490 through BB-509, BB-511 through BB-529, BB-531 through BB-550, BB-552 through BB-562, BB-564 through BB-572, BB-574 through BB-590, BB-592 through BB-608, BB-610 through BB-626, BB-628 through BB-646, BB-648 through BB-664, BB-666 through BB-694, BB-696 through BB-797, BB-799 through BB-822, BB-824 through BB-870, BB-872 through BB-894,BB-896 through BB-990, BB-992 through BB-1051, BB-1053 through BB-1092, BB-1094, BB-1095, BB-1099 through BB-1104, BB-1106 through BB-1116, BB-1118 through BB-1184, BB-1186 through BB-1263, BB-1265 through BB-1288, BB-1290 through BB-1300, BB-1302 through BB-1313, BB-1315 through BB-1384, BB-1389 through BB-1425, BB-1427 through BB-1447, BB-1449, BB-1450, BB-1452, BB-1453, BB-1455, BB-1456, BB-1458 through BB-1683, BB-1685 through BB-1716, BB-1718 through BB-1720, BB-1722, BB-1723, BB-1725, BB-1726, BB-1728 through BB-1826.
(8) 200C and B200C | BL-1 through BL-23, BL-25 through BL-57, BL-61 through BL-72, and BL-124 through BL-147.
(9) 200CT and B200CT | BN-1 through BN-4.
(10) 200T and B200T | BT-1 through BT-38, and BB-1314.
(11) 300 and 300LW | FA-1 through FA-230; and FF-1 through FF-19.
(12) B300 | FL-1 through FL-379.
(13) B300C | FM-1 through FM-10; and FN-1.
(14) 1900 | UA-3.
(15) 1900C | UB-1 through UB-74 and UC-1 through UC-174.
(16) 1900D | UE-1 through UE-439.
(17) 65-A90-1 (U-21A or U-21G) | LM-1 through LM-141.
(18) 65-A90-2 (RU-21B) | LS-1 through LS-3.
(19) 65-A90-3 (U-21 Series) | LT-1 and LT-2.
(20) 65-A90-4 (U-21 Series) | LU-1 through LU-16.
(21) H90 (T-44A) | LL-1 through LL-61.
(22) A100-1 (U-21J) | BB-3 through BB-5.
(23) A100 (U-21F) | B-95 through B-99.
(24) A200 (C-12A and C-12C) | BC-1 through BC-75 and BD-1 through BD-30.
(25) A200C (UC-12B) | BJ-1 through BJ-66.
(26) A200CT (C-12D, FWC-12D, C-12F) | BP-1, BP-7 through BP-11, BP-19, BP-22, and BP-24 through BP-63.
(27) A200CT (RC-12D, RC-12H) | GR-1 through GR-12, and GR-14 through GR-19.
(28) A200CT (RC-12G) | FC-1 through FC-3.
(29) A200CT (RC-12K, RC-12P and RC-12Q) | FE-1 through FE-9, and FE-25 through FE-36.
(30) B200C (C-12F) | BL-73 through BL-112, and BL-118 through BL-123; BP-64 through BP-71.
(31) B200C (C-12R) | BW-1 through BW-29.
(32) B200C (UC-12M) | BV-1 through BV-10.
(33) B200C (UC-12F) | BU-1 through BU-10.
(34) 1900C (C-12J) | UD-1 through UD-6.

What Is the Unsafe Condition Presented in This AD?

(d) This AD is the result of numerous reports of loose bolts on the pedestal attachment of the throttle/prop cross shaft assembly. The actions specified in this AD are intended to detect and correct loose bolts not securing the pedestal cross shaft, which could result in limited effectiveness of the control levers. This failure could lead to an aborted takeoff.

What Must I Do To Address This Problem?

(e) To address this problem, you must do the following:

Actions | Compliance | Procedures
(1) Inspection and torque:
(i) inspect the engine controls/cross shaft/pedestal for proper installation and torque; and
(ii) re-torque the cross attach bolt. | Initially inspect within the next 50 hours time-in-service (TIS) after October 4, 2004 (the effective date of this AD), unless already done within the last 50 hours TIS, and thereafter at intervals not to exceed 100 hours TIS until the modification in paragraph (e)(3) of this AD is done | Follow Part I, Accomplishment Instructions of Raytheon Aircraft Company Mandatory Service Bulletin No. SB 73-3634, dated September 2003. The applicable airplane maintenance manual also addresses this issue.
(2) If any improper installation or wrong torque is found during any inspection required by paragraph (e)(1) of this AD, correct the installation or torque | Before further flight after the inspection in which any improper installation or wrong torque is found | Follow Part I, Accomplishment Instructions of Raytheon Aircraft Company Mandatory Service Bulletin No. SB 73-3634, dated September 2003. The applicable airplane maintenance manual also addresses this issue.
(3) Modify the pedestal and replace the engine controls cross shaft hardware. Modification of the pedestal and replacement of the engine controls cross shaft hardware is the terminating action for the repetitive inspection and re-torque requirements specified in paragraph (e)(1) of this AD | At the next scheduled maintenance/inspection interval or 12 calendar months after October 4, 2004 (the effective date of this AD), whichever occurs later. You may do this modification before this time as terminating action for the repetitive inspection and re-torque requirements | Follow Part II, Accomplishment Instructions of Raytheon Aircraft Company Mandatory Service Bulletin No. SB 73-3634, dated September 2003. The applicable airplane maintenance manual also addresses this issue.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Jeff Pretz, Aerospace Engineer, Wichita ACO, FAA, 1801 Airport Road, Mid-Continent Airport, Wichita, Kansas 67209; telephone: (316) 946-4153; facsimile: (316) 946-4107.

Does This AD Incorporate Any Material by Reference?

(g) You must do the actions required by this AD following the instructions in Raytheon Aircraft Company Mandatory Service Bulletin No. SB 73-3634, dated September, 2003. The Director of the Federal Register approved the incorporation by reference of this service bulletin in accordance with 5 U.S.C. 552(a) and 1 CFR part 51. You may get a copy from Raytheon Aircraft Company, 9709 E. Central, Wichita, Kansas 67201-0085; telephone: (800) 429-5372 or (316) 676-3140. You may review copies at FAA, Central Region, Office of the Regional Counsel, 901 Locust, Room 506, Kansas City, Missouri 64106; or at the National Archives and Records Administration (NARA). For information on the availability of this material at NARA, call (202) 741-6030, or go to: http://www.archives.gov/federal_register/code_of_federal_regulations/ibr_locations.html.

Issued in Kansas City, Missouri, on August 12, 2004.
John R. Colomy,
Acting Manager, Small Airplane Directorate, Aircraft Certification Service.

[FR Doc. 04-18923 Filed 8-19-04; 8:45 am]

BILLING CODE 4910-13-P